ENVIRONMENTAL PROTECTION AGENCY

[FRL-8026-4]

Proposed CERCLA Administrative Cost Recovery Settlement; The Patclin Chemical Superfund Site, Yonkers, Westchester County, NY

AGENCY: Environmental Protection Agency.

ACTION: Notice; request for public comment.

SUMMARY: In accordance with Section 122(h)(1) of the Comprehensive Environmental Response, Compensation, and Liability Act as amended (“CERCLA”), 42 U.S.C. 9622(h)(1), notice is hereby given of a proposed administrative settlement for recovery of past response costs concerning the Patclin Chemical Superfund Site located in Yonkers, Westchester County, New York (the “Site”) with the following settling party: Mark Klein. The settlement requires the settling party to pay $350,000.00 to the Hazardous Substance Superfund in reimbursement of EPA's past response costs with respect to the Site. The settlement includes a covenant not to sue the settling party pursuant to Section 107(a) of CERCLA, 42 U.S.C. 9607(a) for past response costs. For thirty (30) days following the date of publication of this notice, the Agency will receive written comments relating to the settlement. The Agency will consider all comments received and may modify or withdraw its consent to the settlement if comments received disclose facts or considerations which indicate that the settlement is inappropriate, improper, or inadequate.

DATES: Comments must be submitted on or before March 2, 2006.

ADDRESSES: The proposed settlement is available for public inspection at USEPA, 290 Broadway, New York, New York 10007-1866. A copy of the proposed settlement may be obtained from Jean Regna, Assistant Regional Counsel, USEPA, 290 Broadway, New York, New York 10007-1866, (212) 637-3164. Comments should reference the Patclin Chemical Superfund Site located in Yonkers, Westchester County, New York, EPA Index No. CERCLA-02-2005-2023, and should be addressed to Jean Regna, Assistant Regional Counsel, USEPA, 290 Broadway, New York, New York 10007-1866.

FOR FURTHER INFORMATION CONTACT: Jean Regna, Assistant Regional Counsel, USEPA, 290 Broadway, New York, New York 10007-1866, (212) 637-3164.

Dated: December 15, 2005.
William McCabe,
Acting Director, Emergency and Remedial Response Division.

[FR Doc. E6-1209 Filed 1-30-06; 8:45 am]

BILLING CODE 6560-50-P